DEPARTMENT OF TRANSPORTATION

Federal Aviation Administration

14 CFR Part 39

[Docket No. FAA-2015-0080; Directorate Identifier 2012-NM-189-AD; Amendment 39-18357; AD 2015-26-09]

RIN 2120-AA64

Airworthiness Directives; ATR—GIE Avions de Transport Régional Airplanes

AGENCY: Federal Aviation Administration (FAA), Department of Transportation (DOT).

ACTION: Final rule.

SUMMARY: We are adopting a new airworthiness directive (AD) for all ATR—GIE Avions de Transport Régional Model ATR42 airplanes. This AD was prompted by several reports of a cracked floor beam at frame (FR) 26, and of discrepancies in certain wing inspection tasks in maintenance documents that could lead to errors in scheduling inspection intervals of structurally significant items (SSIs). This AD requires repetitive inspections of certain floor beams and revision of the maintenance or inspection program to include inspections of several areas of the wings. We are issuing this AD to detect and correct any cracking of the floor beam at FR 26 and several areas of the wings, which could lead to reduced structural integrity of the airplane.

DATES: This AD becomes effective February 17, 2016.

The Director of the Federal Register approved the incorporation by reference of a certain publication listed in this AD as of February 17, 2016.

ADDRESSES: You may examine the AD docket on the Internet at http://www.regulations.gov/#!docketDetail;D=FAA-2015-0080 or in person at the Docket Management Facility, U.S. Department of Transportation, Docket Operations, M-30, West Building Ground Floor, Room W12-140, 1200 New Jersey Avenue SE., Washington, DC.

For service information identified in this final rule, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com. You may view this referenced service information at the FAA, Transport Airplane Directorate, 1601 Lind Avenue SW., Renton, WA. For information on the availability of this material at the FAA, call 425-227-1221. It is also available on the Internet at http://www.regulations.gov by searching for and locating Docket No. FAA-2015-0080.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all ATR—GIE Avions de Transport Régional Model ATR42 airplanes. The NPRM published in the Federal Register on January 26, 2015 (80 FR 3921).

European Aviation Safety Agency (EASA), which is the Technical Agent for the Member States of the European Union, has issued EASA Airworthiness Directive 2012-0193, dated September 25, 2012 (referred to after this as the Mandatory Continuing Airworthiness Information, or “the MCAI”), to correct an unsafe condition for all ATR—GIE Avions de Transport Régional Model ATR42 airplanes. The MCAI states:

Floor beam at Frame 26: During maintenance checks, the floor beam at frame (FR) 26 was found cracked on several ATR 42 aeroplanes.

This condition, if not detected and corrected, could lead to reduce the structural integrity of the aeroplane. A new Structural Significant Items (SSI) task will be introduced in the next revision of the ATR42 Time Limits document in order to address this issue.

MRBR/MPD discrepancy on Wings item: A discrepancy has been noticed between the Maintenance Review Board Report (MRBR)/Maintenance Planning Document (MPD) and the Time Limits document. ATR modifications 02805 and 08039 were erroneously stated similar in the MRBR/MPD, inducing misleading applicability of the SSI tasks depending upon the document used and leading operators to miss several inspections, as evidenced during a recent review.

Following the structural investigation, new inspection thresholds have been calculated and will be introduced in the next revisions of the ATR Time Limits documents (Revision 8 and Revision 9, as applicable to the aeroplane models) and MRBR/MPD documents.

For the reasons described above, this [EASA] AD requires repetitive inspections of the FR26 floor beam, and of several areas of the wings, as defined in the ATR42 Time Limits document and, depending on findings, the accomplishment of applicable corrective action(s).

You may examine the MCAI in the AD docket on the Internet at http://www.regulations.gov/#!documentDetail;D=FAA-2015-0080-0002.

Comments

We gave the public the opportunity to participate in developing this AD. We have considered the comment received. The following presents the comment received on the NPRM (80 FR 3921, January 26, 2015) and the FAA's response.

Request To Resolve Conflict Between the Effectivity of Certain Tasks and the Applicability of Paragraph (h) of This AD

Empire Airlines requested that a conflict between the affected airplanes identified in paragraph (h) of the proposed AD (80 FR 3921, January 26, 2015) and the effectivity of certain SSI tasks listed in table 1 to paragraph (h) of the proposed AD be removed. Empire Airlines noted that paragraph (h) of the proposed AD would apply to Model ATR42 airplanes on which ATR Modification 02805 was not embodied in production. The ATR MRBRs, however, identify certain SSI tasks as being effective only for airplanes on which ATR Modification 02805 has been embodied. Empire Airlines suggested that revising the NPRM to address this conflict could result in avoiding the need to request an alternative method of compliance (AMOC).

We agree and have revised table 1 to paragraph (h) of this AD to remove the tasks that are associated only with post-Modification 02805 airplanes, i.e., tasks 572301-3 and -5 for Model ATR-42-200, -300, and -320 airplanes. As stated in the MCAI, the time limit documents and the MRBR/MPD documents will be updated to include the new compliance times.

We have clarified paragraph (h) of this AD by replacing the text “incorporating the SSI tasks” with the text “incorporating the applicable SSI tasks and compliance times” to match the title of table 1 to paragraph (h) of this AD.

Conclusion

We reviewed the relevant data, considered the comments received, and determined that air safety and the public interest require adopting this AD with the change described previously and minor editorial changes. We have determined that these minor changes:

• Are consistent with the intent that was proposed in the NPRM (80 FR 3921, January 26, 2015) for correcting the unsafe condition; and

• Do not add any additional burden upon the public than was already proposed in the NPRM (80 FR 3921, January 26, 2015).

We also determined that these changes will not increase the economic burden on any operator or increase the scope of this AD.

Related Service Information Under 1 CFR Part 51

Avions de Transport Régional (ATR) has issued Job Instruction Card 535100 DVI 10097, “DVI of FR26 Floor Beam Around Cut-outs for Cooling & Hydrau Ducts,” dated February 9, 2012 (for Model ATR42-200, -300, -320, and -500 airplanes). The service information describes procedures for a detailed inspection for damage (cracks, corrosion, dents, scratches, scores and abrasions) of the floor beam at FR 26, on the left-hand (LH) and right-hand (RH) sides, and, for certain inspection findings, contacting the manufacturer for repair instructions. This service information is reasonably available because the interested parties have access to it through their normal course of business or by the means identified in the ADDRESSES section.

Costs of Compliance

We estimate that this AD affects 31 airplanes of U.S. registry.

We also estimate that it will take about 4 work-hours per product to comply with the basic requirements of this AD. The average labor rate is $85 per work-hour. Based on these figures, we estimate the cost of this AD on U.S. operators to be $10,540, per inspection cycle, or $340, per inspection cycle, per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2015-0080; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-26-09 ATR—GIE Avions de Transport Régional: Amendment 39-18357. Docket No. FAA-2015-0080; Directorate Identifier 2012-NM-189-AD.

(a) Effective Date

This AD becomes effective February 17, 2016.

(b) Affected ADs

None.

(c) Applicability

This AD applies to all ATR—GIE Avions de Transport Régional (ATR) Model ATR42-200, -300, -320, and -500 airplanes, certificated in any category.

(d) Subject

Air Transport Association (ATA) of America Codes 53, Fuselage; and 57, Wings.

(e) Reason

This AD was prompted by several reports of a cracked floor beam at frame (FR) 26 on several Model ATR42 airplanes, and of discrepancies in certain wing inspection tasks in maintenance documents that could lead to errors in scheduling inspection intervals of structurally significant items (SSIs). We are issuing this AD to detect and correct any cracking of the floor beam at FR 26 and several areas of the wings, which could lead to reduced structural integrity of the airplane.

(f) Compliance

Comply with this AD within the compliance times specified, unless already done.

(g) Repetitive Inspections and Corrective Actions for FR 26 Floor Beam for All Model ATR42 Airplanes

(1) For all Model ATR42 airplanes: At the later of the compliance times specified in paragraphs (g)(1)(i) and (g)(1)(ii) of this AD, and thereafter at intervals not to exceed 12,000 flight cycles, accomplish a detailed inspection for damage (cracks, corrosion, dents, scratches, scores and abrasions) of the floor beam at FR 26, on the left-hand (LH) and right-hand (RH) sides, in accordance with the instructions of ATR Job Instruction Card 535100 DVI 10097, “DVI of FR26 Floor Beam Around Cut-outs for Cooling & Hydrau Ducts,” dated February 9, 2012 (for Model ATR42-200, -300, -320, and -500 airplanes).

(i) Before the accumulation of 24,000 total flight cycles.

(ii) Within 5,000 flight hours or 24 months, whichever occurs first, after the effective date of this AD.

(2) If, during any inspection required by paragraph (g)(1) of this AD, any damage (corrosion or scratches that are greater than allowed, cracks, dents, scores and abrasions) is found: Before further flight, repair in accordance with a method approved by the Manager, International Branch, ANM-116, Transport Airplane Directorate, FAA; or the European Aviation Safety Agency (EASA); or ATR—GIE Avions de Transport Régional's EASA Design Organization Approval (DOA).

(h) SSI Tasks for Certain Model ATR42 Airplanes

For Model ATR42 airplanes on which ATR modification 02805 was not embodied in production: Within 6 months after the effective date of this AD, revise the maintenance or inspection program, as applicable, by incorporating the SSI tasks and compliance times identified in table 1 to paragraph (h) of this AD, in accordance with a method approved by the Manager, International Branch, ANM-116, Transport Airplane Directorate, FAA.

Table 1 to Paragraph (h) of This AD—Applicable SSI Tasks and Compliance Times
For Model— | Use SSI Task— | At this initial time— | And repeat at intervals not to exceed—
ATR-42-500 airplanes | 572301-1 or -3, as applicable | Before 45,000 total flight cycles or within 6 months after the effective date of this AD, whichever occurs later | 7,300 flight cycles.
ATR-42-500 airplanes | 572305 | Before 46,000 total flight cycles or within 6 months after the effective date of this AD, whichever occurs later | 3,900 flight cycles.
ATR42-200, -300, and -320 airplanes | 572301-1, or -4, as applicable | Before 45,000 total flight cycles or within 6 months after the effective date of this AD, whichever occurs later | 7,300 flight cycles.
ATR42-200, -300, and -320 airplanes | 572305-1 | Before 46,000 total flight cycles or within 6 months after the effective date of this AD, whichever occurs later | 3,900 flight cycles.
ATR42-200, -300, and -320 airplanes | 572409 | Before 42,000 total flight cycles or within 6 months after the effective date of this AD, whichever occurs later | 9,000 flight cycles.
ATR42-200, -300, and -320 airplanes | 572410, 572411, 572412, 572413, 572414, and 572415 | Before 43,000 total flight cycles or within 6 months after the effective date of this AD, whichever occurs later | 10,000 flight cycles.
ATR42-200, -300, and -320 airplanes | 572416 and 572417 | Before 44,000 total flight cycles or within 6 months after the effective date of this AD, whichever occurs later | 7,300 flight cycles.

Note 1 to paragraph (h) of this AD: For ATR42-500 airplanes, additional guidance for the maintenance or inspection program revision may be found in the ATR ATR 42-400/-500 Maintenance Review Board Report, Revision 13, dated November 30, 2011.

Note 2 to paragraph (h) of this AD: For ATR42-200, -300, and -320 airplanes, additional guidance for the maintenance or inspection program revision may be found in the ATR ATR 42-200/-300/-320 Maintenance Review Board Report, Revision 13, dated November 30, 2011.

(i) No Alternative Actions or Intervals

After the maintenance or inspection program has been revised as required by paragraph (h) of this AD, no alternative actions (e.g., inspections) or intervals may be used unless the actions or intervals are approved as an alternative method of compliance (AMOC) in accordance with the procedures specified in paragraph (j)(1) of this AD.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, International Branch, ANM-116, Transport Airplane Directorate, FAA; or EASA; or ATR—GIE Avions de Transport Régional's EASA DOA. If approved by the DOA, the approval must include the DOA-authorized signature.

(k) Related Information

(1) Refer to Mandatory Continuing Airworthiness Information (MCAI) EASA Airworthiness Directive 2012-0193, dated September 25, 2012, for related information. This MCAI may be found in the AD docket on the Internet at http://www.regulations.gov/#!documentDetail;D=FAA-2015-0080-0002.

(2) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR Job Instruction Card 535100 DVI 10097, “DVI of FR26 Floor Beam Around Cut-outs for Cooling & Hydrau Ducts,” dated February 9, 2012.

(ii) Reserved.

(3) For service information identified in this AD, contact ATR—GIE Avions de Transport Régional, 1, Allée Pierre Nadot, 31712 Blagnac Cedex, France; telephone +33 (0) 5 62 21 62 21; fax +33 (0) 5 62 21 67 18; email continued.airworthiness@atr.fr; Internet http://www.aerochain.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 21, 2015.
Michael Kaszycki,
Acting Manager, Transport Airplane Directorate, Aircraft Certification Service.

[FR Doc. 2015-32892 Filed 1-12-16; 8:45 am]

BILLING CODE 4910-13-P